DEPARTMENT OF ENERGY

Federal Energy Regulatory Commission

[Docket No. RM00-12-000]

Electronic Filing of Documents; Notice of Additional Qualified Documents for Electronic Filing

March 8, 2001.

Take notice that beginning March 12, 2001, the Commission will accept Motions to Intervene and Comments on Proposed Rulemakings for filing via the Internet in lieu of paper copies.

Order No. 619,¹ authorized the Secretary of the Commission to issue and amend a list of qualified documents that, at the filer's option, may be submitted via the Internet without also filing paper copies.² The Commission defined the initial set of qualified documents and issued electronic filing instructions in a notice issued October 6, 2000.³ That notice identified the initial set of qualified documents, including:

¹ III FERC Stats. & Regs., Regulations Preambles ¶ 31,107.

² 18 CFR 385.2003(c)(2), 65 FR 57088.

³ “Notice of Qualified Documents for Electronic Filing”, Docket No. RM00-12-000, issued October 6, 2000.

1. Comments on applications and other filings

2. Comments on technical conferences

3. Comments filed in connection with environmental documents (Notices, Environmental Assessments, and Environmental Impact Statements) ⁴

⁴ 18 CFR 380.10(a).

4. Protests ⁵ and responses to certain protests.⁶

⁵ 18 CFR 385.211 and 18 CFR 343.3 (see also 18 CFR 4.5, 4.13, 4.23, 35.8(a), 154,210(a), 157.10, and 157.205(e)).

⁶ 18 CFR 343.3(b).

5. Reply comments.

Beginning March 12, 2001, the following additional filings may, at the filer's option, be submitted via the Internet in lieu of paper copies:

1. Comments in response to Notices of Proposed Rulemakings ⁷

⁷ 18 CFR 385.1903 and 18 CFR 380.10(b).

2. Motion/Notice of Intervention ⁸

⁸ 18 CFR 385.214, 385.1306 (See also 18 CFR 35.8(a), 154.210(a) and (b), 157.210, 157.106, 343.2(a), and 380.10).

3. Motion/Notice of Intervention Out-of-Time ⁹

⁹ 18 CFR 385.214(b)(3).

4. Withdrawal of Intervention ¹⁰

¹⁰ 18 CFR 385.216.

5. Reply Comments and Responses to Motions to Intervene

The Commission also confirms that responses to Notices of Inquiry are qualified documents for filing via the Internet.

The Commission is not yet accepting comments on settlements, comments on litigated cases, or complaints over the Internet. Those documents must be filed in the traditional manner with the required number of paper copies.

Qualified documents may be combined and submitted in the same document (electronic file). For example, a motion to intervene may also include comments and/or a protest in the same document and be eligible for filing via the Internet.

Non-qualified documents may not be included in an electronic submission with other qualified documents. For example a complaint (not a qualified document) combined with a Motion to Intervene is not eligible for electronic submission via the Internet.

We are revising and reissuing Attachments A ¹¹ and B,¹² originally issued on October 6, 2000, to reflect the additions to the qualified documents list. These attachments contain the technical requirements and filing instructions, respectively, for electronic submission of qualified documents.

¹¹ “Technical Requirements for Electronic Filing”, originally issued as Attachment A to “Notice of Qualified Documents for Electronic Filing”, Docket No. RM00-12-000, October 6, 2000.

¹² “FERC Electronic Filing of Interventions, Comments, and Protests: User Guide (version 2.1)”, March 12, 2001.

David P. Boergers,
Secretary.

Attachment A

Technical Requirements for Electronic Filing

I. Purpose

The Commission's regulations at 18 CFR Part 385.2003(c) permit participants to voluntarily file certain qualified documents in electronic format via the Internet in lieu of filing paper copies.¹

¹ 18 CFR 385.2003(c), 65 FR 57088 (Sept. 21, 2000).

II. Who May Submit

Anyone desiring to comment on or participate in a Commission proceeding may voluntarily submit a qualified document in electronic format via the Internet, in lieu of paper copies.

III. What To Submit

A document filed with the Commission via the Internet must be a “qualified document.”

For the purpose of filing via the Internet, “qualified documents” are those categories of documents listed in instructions issued by the Secretary. More than one qualified document type may be combined in a single file. For example, a Motion to Intervene may also contain comments and/or a protest.

Documents that are not “qualified documents” cannot be filed via the Internet, even if combined with other “qualified documents”. Such filings must be submitted with an original and the applicable number of paper copies. Similarly, documents requiring privileged or protected treatment by the Commission may not be filed via the Internet.

Persons filing “qualified documents” via the Internet should not file paper copies.

The list of qualified documents will be included in instructions for filing issued by the Secretary of the Commission and available on the Commission's web site (www.ferc.fed.us) at the link “Make An E-Filing.”

IV. Technical Requirements

A. Filing Format

Participants may submit electronic documents in the following formats:

1. Microsoft Word: Versions up to MS Office 2000. The file name extension must be “.doc”.

2. Corel WordPerfect: Versions up to 9.0. The file name extension must be “.wpd”.

3. Portable Document Format (PDF); all versions. The file name extension must be “.pdf”.

4. Rich Text Format. The file name extension must be “.rtf”.

5. ASCII. The file name extension must be “.txt”.

We do not currently accept spreadsheet or presentation software formats.

Participants may submit files with long file names not exceeding 25 characters. Do not include blank spaces or ampersands in the name. Use a period to delimit the file name and the extension. The underscore character is acceptable if you need to delimit a file name. You will receive an error message if the file name contains spaces, or does not have the correct extension.

C. Method of Submission

The system for electronic filing of interventions, comments, and protests is a file attachment process. You must first prepare your submission in one of the acceptable file formats. We do not at this time provide a text box for submitting brief comments.

The following steps outline the procedure for filing a qualified document with the Commission via the Internet. Instructions for e-filing are on the Commission's web site (www.ferc.fed.us) under the link “Make An E-Filing”.

1. Access the Commission's web site and click on “Make An E-Filing”.

2. Enter your User Name and Password or click on “New User Account”.

3. After login, select the type of filing, specify the signer of the document and the organization on whose behalf the filing is made; specify the Docket Number(s) for the submission. Accept or amend the default description of the filing and select the appropriate file to submit.

4. Upon successful transmission of the file, the Commission's computer system will immediately generate a web-based response confirming receipt. The Commission's computer system will shortly thereafter send an e-mail message confirming receipt (first e-mail).

5. The Commission's computer system will convert native file formats to Portable Document Format (PDF) and send a second e-mail to the filer with a link to the PDF file.

6. The Commission's Docket Staff will review the filing and, if accepted for filing, the filer will receive a third e-mail with a “Notice of Acceptance” and a link to GIF image files created from the PDF file.

7. If the filing is not accepted, the Dockets Staff will send a “Notice of Rejection”, with the reason for the rejection, to the filer's e-mail address.

8. The Commission will make available on its web site, through its Records and Information Management System (RIMS), electronic versions of the accepted document in native (as filed), PDF, and GIF image formats. Interested persons can download any or all versions of the file or view it on screen if they have the appropriate viewer.

D. Authentication and Verification

Participants must establish a User Name and Password prior to their first submission. The User Name and Password validate the identity of the person submitting the electronic filing.

The typed name of the person responsible for the filing must be included in the text of the electronic submission where the filing would normally be “signed.” The string of characters representing the name of the person responsible for the filing satisfies the “signature” requirement of 18 CFR 385.2005 (e.g., /S/ John Doe).

E. Filing Date

The same rules that establish the filing date for paper filings also apply to electronic filings. Electronic filings received after 5:00 p.m. Eastern time will be considered received as of 8:30 a.m. on the next business day.

F. Document Content Standards

There are some limitations on the content of documents submitted to the Commission via the Internet. Documents must satisfy the following criteria:

1. Documents must be submitted as a single file, which is neither zipped nor compressed. The file size limit is five megabytes. Only documents in approved filing formats with the proper file name extension will be accepted. Cover letters and/or certificates of service, if applicable, should be included in the same file as the rest of your submission.

2. Documents filed via the Internet must generally conform to the same document formatting specifications that apply to paper submissions. They should have double-spaced lines, left margins not less than 1½ inch, indented and single-spaced quotations that exceed 50 words; and not less than 10-point fonts (See 18 CFR 385.2003).

3. The document must include the Docket Number of the proceeding in which you are filing. Qualified documents may be filed in one or more dockets. Use the Commission Issuance Posting System (CIPS) or the Records and Information Management System (RIMS) to determine the correct docket number and format. Both systems are accessible from the Commission's web site (www.ferc.fed.us).

4. The document must contain the name and address of the person responsible for the filing.

5. Documents must not contain auto-text functions (such as “today's date”) or macros that change the content of the document after submission.

6. Documents must not contain hyperlinks to external documents.

7. All documents submitted electronically will be public. Non-public or proprietary documents may not be submitted electronically.

8. Paragraph numbers are not required; however, if you are filing in a format other than PDF, we encourage you to use paragraph numbers.

F. Additional Contacts

For assistance or to discuss problems with making electronic filings, contact the Helpline at 202-208-0258 during the Commission's business hours (8:30 a.m. to 5:00 p.m. Eastern time) or e-mail efiling@ferc.fed.us.

To obtain general information about the program and accessing the documents filed electronically (viewing, printing, and downloading), contact the public Helplines during business hours at:

202-208-1371 (and press “0”) or e-mail public.referenceroom@ferc.fed.us

202-208-2222 or e-mail rimsmaster@ferc.fed.us.

Note: The Commission does not accept filings via e-mail. Do not use any of the above e-mail addresses to submit comments or other filings to the Commission. Materials submitted via e-mail will not be placed in the record for a proceeding.

V. Paperwork Reduction Act

No person shall be subject to any penalty for failing to comply with this collection of information if the collection of information does not display a valid control number.²

² 44 U.S.C. 3512.

Federal Energy Regulatory Commission

Electronic Filing of Interventions, Comments, and Protests, v2.1

User Guide

March 12, 2001.

Table of Contents

I. Introduction

II. E-Filing Procedures

A. Before You Login to File

B. Access FERC's E-Filing System

C. Login to Make a Filing

If you have a User Name

If you do not have a User Name

D. Select the Type of Filing You Are Making

E. Specify the Signer of the Document

F. Specify the Organization on Whose Behalf You Are Filing

G. Specify the Docket Number(s) Applicable to Your Filing

H. Enter a Description of Filing and Select the File to Submit

III. Receipt and Acknowledgment

IV. User Assistance

Attachment A: How to Intervene in Commission Proceedings

Attachment B: Privacy Act Statement and the Use of Cookies

Privacy Act Statement

Use of Cookies

I. Introduction

Pursuant to Order No. 619,¹ the Federal Energy Regulatory Commission (FERC) now accepts the following “qualified documents” via the Internet in lieu of paper filing.

¹ III FERC Stats. & Regs., Regulations Preambles ¶ 31,107.

Comments on Filings

1. Comments on applications and other filings

2. Comments on technical conferences

3. Comments filed in connection with environmental documents (Notices, Environmental Assessments, and Environmental Impact Statements) ²

² 18 CFR 380.10(a) (2000).

4. Protests ³ and responses to certain protests.⁴

³ 18 CFR 385.211 and 18 CFR 343.3 (see also 18 CFR 4.5, 4.13, 4.23, 35.8(a), 154,210(a), 157.10, and 157.205(e)) (2000).

⁴ 18 CFR 343.3(b) (2000).

5. Comments on Notices of Inquiry (PL Dockets)

6. Reply comments.

Comments on Notices of Proposed Rulemakings (RM Dockets) ⁵

⁵ 18 CFR 385.1903 and 18 CFR 380.10(b) (2000).

Interventions

1. Motion/Notice of Intervention ⁶

⁶ 18 CFR 385.214, 385.1306 (See also 18 CFR 35.8(a), 154.210(a) and (b), 157.210, 157.106, 343.2(a), and 380.10) (2000).

2. Motion/Notice of Intervention Out-of-Time ⁷

⁷ 18 CFR 385.214(b)(3) (2000).

3. Withdrawal of Intervention ⁸

⁸ 18 CFR 385.216 (2000).

4. Responses to Motions To Intervene

The Electronic Filing System is a file attachment process; we do not yet have a text box for filing brief comments. So you should prepare your submission in the same manner as you would if filing on paper. Your filing must include the docket number(s) applicable to your submission as well as the name and address of the person responsible for the filing.

Two or more qualified documents may be combined in a single document (e.g., a motion to intervene may also include comments and a protest) and submitted using FERC's electronic filing system. But “non-qualified documents” (e.g., a complaint), may not be electronically submitted at this time, even if they also contain qualified documents.

II. E-Filing Procedures

The same filing deadlines that apply to paper submissions also apply to electronic submissions. Your electronic submission must be received by 5:00 p.m. Eastern time in order to be considered filed on that day. Otherwise, it will be considered filed at 8:30 a.m. on the next business day.

A. Before You Login To File

1. Electronic filing is limited to certain “qualified documents” identified in Notices issued by the Office of the Secretary in Docket No. RM00-12-000. The types of documents eligible for electronic filing are summarized in the Introduction to this Guide. Be sure that your submission contains only qualified documents.

2. Prepare your submission in one of the following file formats:

MS Word (.doc)

WordPerfect (.wpd)

Portable Document Format (.pdf)

Rich Text Format (.rtf) or

ASCII Text format (.txt)

3. Save the file to a diskette or other drive that you can access when you make your submission. Long file names can be used, provided they do not exceed 25 characters and do not contain spaces or ampersands. Use the appropriate file name extension.

4. Submissions currently are limited to a single file. So you should combine a cover letter, and certificate of service, if applicable, in one file with your submission.

5. Check to ensure your browser's Cookie settings are correct. The Commission uses a session cookie to enable you to make your filings electronically. Refer to Attachment B for more information on the use of cookies to access Commission systems. To check your cookie settings to enable electronic filing:

Microsoft Internet Explorer: in the Menu Bar, click on Tools, Internet Options, the Security tab, and then select Custom Level. Scroll down to the Cookies section, and make sure the “Enable” radio button is clicked for both user and session statements. Click OK until you return to your original screen.

Netscape: in the Menu Bar, click on Edit, Preferences, and then on Advanced in the left column. In the right column, in the Cookies section, make sure the “Accept all cookies” radio button is clicked. Click OK until you return to your original screen.

B. Access FERC's E-Filing System

From your chosen browser, go to www.ferc.fed.us

1. On the FERC Home Page, click on “Make an E-Filing.”

2. Review any messages on the Welcome screen for e-filing.

3. Click on LOGIN TO FILE to begin the file submission process.

C. Login to Make a Filing

You must have a User Name and password to use this system.

1. If you have a User Name and Password, enter your User Name and Password, then click on the Login icon below the password box (Skip to Part D below).

2. If you do not have a User Name, you must create one.

a. On the Login screen, select New User Account.

b. At the Contact Information Screen, fill in the First Name, Middle Initial (optional), and Last Name. You must complete all fields with labels in Bold text.

In the Company field, enter the company, association, or organization that you are employed by or associated with, provided that you wish to be affiliated with that organization in the filing you are submitting to FERC. Leave the Company field blank if you are submitting a filing as an individual and not as an employee of your company or a member of any association or organization.

Click on Submit.

c. Specify a User Name & Password. Caution: The user name and password are case sensitive.

d. Type the same password again. Click on Login. Retain your User Name and password for future use.

D. Select the Type of Filing You Are Making

From the Filing Type Selection Screen, click on the radio button that identifies the type of filing you are making. Electronic filing is limited to certain “qualified documents” identified in notices issued by the Office of the Secretary in Docket No. RM00-12-000. The list of qualified documents is summarized in the Introduction to this Guide.

Your submission must include one or more “qualified documents” in a single file (e.g., comments and/or a protest may be filed in conjunction with a motion to intervene if you intend to become a party to a proceeding).

The blue information icons briefly describe each filing type. You may select only one type.

If you're filing a Motion to Intervene, then you should click on that selection, even though your submission may also contain a protest or comments. Refer to the attachment to this Guide for additional information on interventions. Intervenors incur a legal obligation to serve copies of filings on other parties in a proceeding.

E. Specify the Signer of the Document

You must specify the signer of the document you are submitting, and the signer's organization. At the present time, you can enter only one signer name. For a Motion to Intervene, the name you specify will also be added to the service list for the docket you are filing under.

The Search screen for Specify the Document Signer defaults to the person and the organization associated with the user's login account (organization will display “Individual” if you did not specify an organization when you set up your user account).

1. If the default entries for Signer and Signer's Organization are correct, click on Next (Skip to Part F below).

2. If the default entries are not the desired names for the signer and/or the signer's organization, you must search FERC's list of filers for the correct entries.

a. Edit the first and last name of the signer and/or the signer's organization. You do not need to change entries that are correct. If you want to change the signer's organization, enter a character string that the organization name either “starts with” or “contains”, and click on the appropriate radio button (“starts with” is the default). Note for Netscape users: the search query returns results for “contains” only.

Use Clear to erase all default entries; use Reset to restore the default entries.

Click on Next when you finish editing the entries.

b. On the Search Results screen for Specify the Signer of the Document, use the down arrows to select the signer name and/or the organization name from the pick list. When you have made the selections, Click on Next.

(1) If the Signer Name has been changed and the new name and associated address are not found or are incorrect, click on Create a New Contact.

Enter the information for the signer, including the signer's organization, if applicable (Leave blank if you are signing as an Individual). You must complete all fields with Bold labels.

Click on Submit. You will see the signer name (but not the address) and the organization (or “Individual” if you left organization blank). Click on Next to submit the new entries. Skip to Section F below.

(2) If the Signer Organization is not found or is incorrect, fill in a new Organization name in the space provided. Click on Submit.

Note: The signer's organization may be different from the organization on whose behalf the filing is made, e.g., an attorney at a law firm (signer's organization) filing on behalf of a client.

F. Specify the Organization on Whose Behalf You Are Filing

You must specify the organization or group on whose behalf you are filing, if you are making the filing on behalf of anyone other than yourself (as an individual). You can enter only one organization or group name. The FERC Dockets staff will manually add the names of any additional parties to a filing when they review your submission.

At your option, you may specify a contact person associated with or representing the organization or group on whose behalf you are filing. For a Motion to Intervene, the name you specify will be placed on the service list for the docket you are filing under.

The Search screen for the Specify the Organization on Whose Behalf You Are Filing defaults to the organization associated with your User Name account. If you changed that organization in Section E above, then the screen defaults to the revised organization.

1. If you're submitting the filing as an Individual, and “Individual” appears in the Organization Name field, click on Next to continue (Skip to Part G below).

2. If the default entry for the organization name is correct, but you wish to add a contact person for that organization, add the first and last name of the contact person and click on Next (Skip to #4 in this section).

3. If the default entry for the organization name is not correct, enter a character string that the desired organization name either “starts with” or “contains”, and click on the appropriate radio button (“starts with” is the default). Note for Netscape users: the search query returns results for “contains” only.

4. You may, at your option, enter the first and last name of a contact at the organization on whose behalf you are filing. Click on Next when you finish adding or editing the entries. This will initiate a search of the FERC list of filers for names that match the name you entered.

5. On the search results screen, use the down arrows to select the proper entry(ies) from the search results. Click on Next after you select the desired entries.

6. If you do not find the correct entry(ies), follow the procedures in Section E, part 2(b)(1) and 2(b)(2) to Create a New Contact or enter a new organization.

G. Specify the Docket Number(s) Applicable to Your Filing

You must specify at least one docket number for your filing. Comments are generally filed in response to notices issued by the Commission. The notices identify the Docket Number and set the deadline for filing comments or motions to intervene.

If you do not know the applicable Docket Number, or the correct format for the number, you should query either the Commission Issuance Posting System (CIPS) at http://cips.ferc.fed.us/cips/default.htm) or the Records Information Management System (RIMS) at http://www.ferc.fed.us/online/rims.htm on the Commission's web site.

On the Enter Docket Number screen, enter the correct docket and sub-docket number. Most docket numbers have the format ppyy-ddd-sss, where pp is the docket prefix, yy is the last two characters of the fiscal year, ddd is a one to five-digit sequential case number (project number for the “P” prefix), and sss is the sub-docket number. The system will not accept an incomplete entry or one that is not in the proper format.

1. If you're filing in a single docket, click on Continue after you enter the docket number. Note for Netscape users: You must click on Add to Docket List and then click on Continue

2. If you're filing in more than one docket, click on Add to Docket List after each entry to build a complete Docket Number List for your submission. Click on Continue after you've entered all of the applicable docket numbers.

H. Enter a Description of Filing and Select the File to Submit

The title of the next screen will display the type of filling that you selected in Part D. The default description is based on the Filing Type Selection, the organization that you specified as the Organization on Whose Behalf You Are Filing, and the Docket Number(s) that you entered.

You may amend the description to more accurately describe the content of your submission. For example, if you're filing a protest and/or comments in conjunction with a Motion to Intervene, change “Motion/Notice of Intervention * * *” to “Motion to Intervene with Comments and Protest * * *.” There is a limit of 255 characters. Do not use this field for your actual comments; it is a description field only.

After accepting or amending the default description, click on the Browser icon to select the file you intend to submit.

1. From the Choose File box, use the down arrow to select the drive where the file is located.

2. Continue selecting the directory and subdirectory until you locate the file name.

3. Highlight the desired file name and click on Open (alternatively, you can double-click on the file name). The path and file name will appear in the Add File box.

4. Click on Post File to submit your filing to FERC.

III. Receipt and Acknowledgment

Upon receipt of your submission, the E-filing system will automatically acknowledge that your filing has been received by FERC. The following information should appear on your computer screen within a few seconds after you submit your filing:

1. FERC Accession Number (document control number assigned to your submission)

2. File Name

3. File Size (so you can verify a complete transmission)

4. File Date (official filing date; filings received after 5:00 p.m. will be considered filed at 8:30 a.m. on the next business day. See 18 CFR 385.2001(a)(2)).

5. Filing Description

6. Docket Number(s) that you filed against

7. The Filing Type that you selected

8. Submission Date and Time (the date and time we received your submission)

9. Signer's Name

10. The “Filed By” Organization (organization/individual on whose behalf you are filing)

For a Motion to Intervene, the on-screen acknowledgment will also indicate the entries on the Commission's service list for the applicable docket(s). Print the acknowledgment.

Whether you print the on-screen acknowledgment or not, we send the same information via automatic e-mail response to the e-mail address specified in the user's login account. You should receive this e-mail within a minute of receipt.

We'll automatically convert your file to Portable Document Format (PDF) and send a second e-mail with a hyperlink to the PDF version. You should receive this e-mail within minutes of receipt.

The FERC Dockets staff will review each submission to ensure that it is in the correct format and is filed in the correct docket. Once they accept your submission, you will receive a third e-mail notifying you of the acceptance. At this time, the system adds your submission to the applicable Docket Sheet(s) and loads the native file format, the PDF file, and image files created from the PDF file in RIMS, where it is available to the public via the Commission's web site (http://www.ferc.fed.us/online/rims.htm). Dockets will attempt to review all electronic submissions within one hour of receipt.

If the Dockets staff cannot process your submission or there are deficiencies, you will receive an e-mail rejecting the filing. You may resubmit the filing after correcting any errors noted by the Dockets staff.

IV. User Assistance

For assistance or to discuss problems with making electronic filings, contact the Helpline at 202-208-0258 during the Commission's business hours (8:30 a.m. to 5:00 p.m. Eastern time) or e-mail efiling@ferc.fed.us.

To obtain general information about the program and accessing the documents filed electronically (viewing, printing, and downloading), contact the public Helplines during business hours at:

202-208-1371 (and press “0”) or e-mail public.referenceroom@ferc.fed.us

202-208-2222 or e-mail rimsmaster@ferc.fed.us.

Note: The Commission does not accept filings via e-mail. Do not use any of the above e-mail addresses to submit comments or other filings to the Commission. Materials submitted via e-mail will not be placed in the record for a proceeding.

Attachment A: How to Intervene in Commission Proceedings

There are two alternatives available to those wishing to participate in FERC proceedings involving the interstate sale and transportation of natural gas, hydroelectric dams, wholesale transactions of electric transmissions, and rates for the interstate transportation of petroleum products.

One alternative is to file a protest or letter of support with the Commission. While protests and letters of support are helpful in the Commission's deliberation of a case, these filings do not constitute part of the record upon which a decision is made if the case is set for hearing before the Commission's administrative law judges.

The Commission's rules require that protestors provide copies of their protests to the party or parties directly involved.

The second approach is to file as an intervenor. An intervenor is an official party to a proceeding and enjoys distinct advantages over those who only file comments.

Intervenors have the right to participate in hearings before FERC's administrative law judges; file briefs; file for rehearing of a Commission decision; have legal standing to be heard by the Court of Appeals if they press their opposition to the Commission's final order; be placed on a service list to receive copies of case-related Commission documents and filings by other intervenors.

Filing for intervenor status is not complicated. There is no form to complete. Interested parties must file a motion requesting permission to intervene. The motion must identify the case by name and docket number and must clearly state your position and interest in the case.

For example, intervenors may demonstrate they are directly affected consumers, or they are elected representatives of affected parties, or that they own land near a proposed hydroelectric or pipeline site.

In addition to filing with the Commission, a motion to intervene must be served on the applicant and any other parties to the proceeding. The Commission's Secretary maintains the service list. Service lists are available by docket number on the FERC web site at the following link: http://fercdocket.ferc.fed.us/pa/pa.htm. If you do not have Internet access, requests for service lists should be directed to the Public Reference Room, (202) 208-1371.

Parties that agree to be served by specified electronic means may be served in that manner in lieu of first class mail or other means of physical delivery.

Notices of proposed rate changes, applications for hydro development, proposed natural gas pipelines, and other filings submitted to the Commission are printed daily in the Federal Register (www.access.gpo.gov/su_docs/aces/aces140.htm).

Notices issued by the Commission are also available on the Commission Issuance Posting System (CIPS), which can be accessed through the Commission's web site at http://cips.ferc.fed.us/cips/default.htm.

Each notice includes a deadline for filing requests for intervention. If the request to intervene is filed on time and there is no opposition to the request within 15 days of filing, intervenor status is granted automatically.

Disputed requests for intervenor status must be resolved by the Commission.

Anyone filing a motion to intervene out-of-time must show good cause why the motion should be accepted late.

If the intervention is filed after the matter has been set for hearing and is pending before an administrative law judge, the presiding judge has the authority to rule on contested motions to intervene.

Interventions, protests, or comments may be filed on paper or in electronic format via the Internet in lieu of paper copies. If filing on paper, you must either mail or deliver a signed original and 14 copies of the intervention, comment, and/or protest to the Federal Energy Regulatory Commission, Office of the Secretary, 888 First Street, NE., Washington, DC 20426.

If filing via the Internet, access the Commission's web site (www.ferc.fed.us) and select the link to “Make An E-Filing”. First-time users will have to create a User Name and password. Once you login, follow the instructions on the screens to submit the file containing your intervention, comment, and or protest. You need not submit paper copies if you file via the Internet.

As noted, these filings must cite the case name and docket number.

Attachment B: Privacy Act Statement and the Use of Cookies

Privacy Act Statement

The Commission's Privacy Act Statement is available on its web site at: http://www.ferc.fed.us/disclmer.htm.

In the electronic filing system, you provide personal information to us in two ways.

First, you must provide your name, address, telephone number, and e-mail address in order to establish a User Name and Password to use the system. We use this information to authenticate the source of an electronic filing. When you login to the system, we display this information for you so that you can verify that the information has not changed since your last session. We also use your name and organization, if any, to pre-fill certain fields to simplify data entry. You can change the default entries if they are not correct.

The information associated with your User Name is not used for any other purpose, nor is it disclosed to others. We use Secure Sockets Layer (SSL) software to protect passwords so that no one else can access your account or make a filing using your account.

The second source of personal information is the identifying information that you must include in the document (file) that you submit to the Commission. The information in the document, including any personal identification information, is a public record and will be accessible by any member of the public via the Commission's web site. These requirements apply to both electronic and paper submissions.

All filings must be signed. For electronic filings, the Commission's rules provide that the typed characters representing the name of a person shall be sufficient to show that such person signed the document. All filings with the Commission must contain: the docket number, if any; the title of the proceeding if one has been initiated; a heading which describes the filing; and the name of the participant for whom the filing is made.

In most cases, you must also include the name, address, and telephone number of the person responsible for the filing. Motions to Intervene must include the name, address, and telephone number of the person(s) to be included on the Commission's official service list for the proceeding. The service lists are also accessible to the public via the Commission's web site.

If you need additional information on the content requirements for specific filings, refer to the Commission's Procedural Rules in 18 CFR 385.

Use of Cookies

Cookies are short text files placed on your computer's hard drive by a web site, usually without your knowledge. The cookie is not an executable program and cannot do anything to your computer. There are two kinds of cookies:

A session cookie is one that continues in operation only for the duration of the browser session—when the user shuts down the browser the cookie is released and goes away.

A persistent cookie continues in operation after the close of the individual session. Shutting down the browser will cause the cookie to be written into a special cookie file on the user's computer, so that the next time the user visits the web site that generated the cookie, the cookie will be sent to the web site's server again.

The Commission uses a session cookie to enable you to make filings electronically. We do not use persistent cookies for electronic filing.

The session cookie is used for no other purpose than to enable you to make an electronic submission. You can prevent any cookies from being sent to your system using the browser options. However, if you do so, or already have your browser set to do so, you will not be able to submit filings electronically. If you prefer not to allow session cookies on your computer, you will have to submit your filing on paper by sending an original and fourteen copies of your filing to: Federal Energy Regulatory Commission, Office of the Secretary, 888 First St., NE., Washington, DC 20426.

[FR Doc. 01-6324 Filed 3-13-01; 8:45 am]

BILLING CODE 6717-01-P